DEPARTMENT OF THE INTERIOR

National Park Service

[NPS-WASO-NAGPRA-10362; 2200-1100-665]

Notice of Inventory Completion: U.S. Department of the Interior, Bureau of Indian Affairs, Washington, DC, and Arizona State Museum, University of Arizona, Tucson, AZ

AGENCY: National Park Service, Interior.

ACTION: Notice.

SUMMARY: The U.S. Department of the Interior, Bureau of Indian Affairs, and Arizona State Museum, University of Arizona, have completed an inventory of human remains, in consultation with the appropriate Indian tribes, and have determined that there is a cultural affiliation between the human remains and present-day Indian tribes. Representatives of any Indian tribe that believes itself to be culturally affiliated with the human remains may contact the Arizona State Museum, University of Arizona. Repatriation of the human remains to the Indian tribes stated below may occur if no additional claimants come forward.

DATES: Representatives of any Indian tribe that believes it has a cultural affiliation with the human remains should contact the Arizona State Museum, University of Arizona, at the address below by July 12, 2012.

ADDRESSES: John McClelland, NAGPRA Coordinator, Arizona State Museum, University of Arizona, P.O. Box 210026, Tucson, AZ 85721, telephone (520) 626-2950.

SUPPLEMENTARY INFORMATION: Notice is here given in accordance with the Native American Graves Protection and Repatriation Act (NAGPRA), 25 U.S.C. 3003, of the completion of an inventory of human remains under the control of the U.S. Department of the Interior, Bureau of Indian Affairs, Washington, DC, and in the physical custody of the Arizona State Museum, University of Arizona, Tucson, AZ. The human remains were removed from archeological sites located in Pinal County, AZ.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Arizona State Museum professional staff in consultation with representatives of the Ak Chin Indian Community of the Maricopa (Ak Chin) Indian Reservation, Arizona; Gila River Indian Community of the Gila River Indian Reservation, Arizona; Hopi Tribe of Arizona; Salt River Pima-Maricopa Indian Community of the Salt River Reservation, Arizona; and the Tohono O'odham Nation of Arizona. The Gila River Indian Community of the Gila River Indian Reservation, Arizona, is acting on behalf of the Ak Chin Indian Community of the Maricopa (Ak Chin) Indian Reservation, Arizona; Salt River Pima-Maricopa Indian Community of the Salt River Reservation, Arizona; Tohono O'odham Nation of Arizona; and themselves.

History and Description of the Remains

In 1963, a surface collection survey was conducted by the Arizona State Museum at site AZ T:16:13 (ASM) in Pinal County, AZ. The survey collections were brought to the museum, but were not formally accessioned. In 2010, a search through the survey collection led to the discovery of human bone fragments representing, at minimum, one individual. No associated funerary objects are present.

Site AZ T:16:13 (ASM) is an historic Pima-Maricopa village, dating to about A.D. 1850. An earlier Hohokam Classic Period occupation, dating to A.D. 1150-1450 is also indicated, based on ceramic artifacts.

In 1973, a surface collection survey was conducted by the Arizona State Museum at site AZ U:13:9 (ASM) in Pinal County, AZ. The survey collections were brought to the museum, but were not formally accessioned. In 2007, a search through the survey collection led to the discovery of three human bone fragments representing, at minimum, one individual. No associated funerary objects are present. Other human remains from this site were published in a Notice of Inventory Completion in the Federal Register (65 FR 83080, December 29, 2000).

Based upon architecture, portable material culture, and site organization, site AZ U:13:9 (ASM) is recorded as a village site with occupation spanning the Pre-classic and Classic Hohokam periods from about A.D. 500-1400.

At an unknown date prior to 1979, a surface collection survey was conducted by the Arizona State Museum at site AZ U:13:10 (ASM) in Pinal County, AZ. The survey collections were brought to the museum, but were not formally accessioned. In 2010, a search through the survey collection led to the discovery of one human bone fragment representing, at minimum, one individual. No associated funerary objects are present.

Site AZ U:13:10 (ASM) is recorded as a multicomponent site with artifacts representing the Hohokam period (A.D. 500-1540) as well as an historic Akimel O'odham occupation (A.D. 1500-1950).

In 1970, a surface collection survey was conducted by the Arizona State Museum under the direction of Don Wood at site AZ U:13:60 (ASM) in Pinal County, AZ. The survey collections were brought to the museum, but were not formally accessioned. In 2010, a search through the survey collections led to the discovery of several human bone fragments representing, at minimum, one individual. No associated funerary objects are present.

Site AZ U:13:60 (ASM) is recorded as a Hohokam village site with ceramic, groundstone, and lithic artifacts. Historic house remnants were also present. Based on material culture and the mortuary program, occupation spanned the Hohokam to historic period, approximately A.D. 500-1900.

In 1970, a surface collection survey was conducted by the Arizona State Museum under the direction of Don Wood at site AZ U:13:118 (ASM) in Pinal County, AZ. The survey collections were brought to the museum, but were not formally accessioned. In 2010, a search through the survey collections led to the discovery of several human bone fragments representing, at minimum, one individual. No associated funerary objects are present.

Site AZ U:13:118 (ASM) is recorded as a Hohokam village site on the basis of the artifact assemblage. The site may be dated to the period A.D. 500-1450.

In 1970, a surface collection survey was conducted by the Arizona State Museum under the direction of Don Wood at site AZ U:13:171 (ASM) in Pinal County, AZ. The survey collections were brought to the museum, but were not formally accessioned. In 2010, a search through the survey collections led to the discovery of several human bone fragments representing, at minimum, one individual. No associated funerary objects are present.

Site AZ U:13:171 (ASM) is recorded as a sherd and cremation area. Other prehistoric and historic artifacts were also reported. Occupation spanning the Hohokam period to historic times, A.D. 500-1900 is indicated by the artifact assemblage.

In 1970, a surface collection survey was conducted by the Arizona State Museum under the direction of Don Wood at site AZ U:14:18 (ASM) in Pinal County, AZ. The survey collections were brought to the museum, but were not formally accessioned. In 2010, a search through the survey collections led to the discovery of several human bone fragments representing, at minimum, one individual. No associated funerary objects are present.

Site AZ U:14:18 (ASM) is recorded as a large multicomponent Hohokam village. Based on the ceramic assemblage, occupation spanned the Pre-classic and Classic Hohokam periods, A.D. 500-1450.

In 1970, a surface collection survey was conducted by the Arizona State Museum under the direction of Don Wood at site AZ U:14:20 (ASM) in Pinal County, AZ. The survey collections were brought to the museum, but were not formally accessioned. In 2010, a search through the survey collections led to the discovery of several human bone fragments representing, at minimum, one individual. No associated funerary objects are present.

Site AZ U:14:20 (ASM) is recorded as a having several large artifact concentrations. The ceramic assemblage is consistent with occupation spanning the Pre-Classic and Classic Hohokam periods from A.D. 500-1450.

Continuities of mortuary practices, ethnographic materials, and technology indicate affiliation of Hohokam settlements with present-day O'odham (Piman) and Puebloan cultures. Documentation submitted by representatives of the Gila River Indian Community of the Gila River Indian Reservation, Arizona, on April 13, 2011, addresses continuities between the Hohokam and the O'odham tribes. Furthermore, oral traditions that are documented for the Ak Chin Indian Community of the Maricopa (Ak Chin) Indian Reservation, Arizona; Gila River Indian Community of the Gila River Indian Reservation, Arizona; Hopi Tribe of Arizona; Salt River Pima-Maricopa Indian Community of the Salt River Reservation, Arizona; and the Tohono O'odham Nation of Arizona support affiliation with Hohokam sites in central Arizona.

Determinations Made by the U.S. Department of the Interior, Bureau of Indian Affairs, Washington, DC, and the Arizona State Museum, University of Arizona, Tucson, AZ

Officials of the Bureau of Indian Affairs and the Arizona State Museum have determined that:

• Pursuant to 25 U.S.C. 3001(9), the human remains described in this notice represent the physical remains of eight individuals of Native American ancestry.

• Pursuant to 25 U.S.C. 3001(2), there is a relationship of shared group identity that can be reasonably traced between the Native American human remains and the Ak Chin Indian Community of the Maricopa (Ak Chin) Indian Reservation, Arizona; Gila River Indian Community of the Gila River Indian Reservation, Arizona; Hopi Tribe of Arizona; Salt River Pima-Maricopa Indian Community of the Salt River Reservation, Arizona; and the Tohono O'odham Nation of Arizona.

Additional Requestors and Disposition

Representatives of any Indian tribe that believes itself to be culturally affiliated with the human remains should contact John McClelland, NAGPRA Coordinator, Arizona State Museum, University of Arizona, P.O. Box 210026, Tucson, AZ 85721; telephone (520) 626-2950 before July 12, 2012. Repatriation of the human remains to the Ak Chin Indian Community of the Maricopa (Ak Chin) Indian Reservation, Arizona; Gila River Indian Community of the Gila River Indian Reservation, Arizona; Hopi Tribe of Arizona; Salt River Pima-Maricopa Indian Community of the Salt River Reservation, Arizona; and the Tohono O'odham Nation of Arizona may proceed after that date if no additional claimants come forward.

The Arizona State Museum is responsible for notifying the Ak Chin Indian Community of the Maricopa (Ak Chin) Indian Reservation, Arizona; Gila River Indian Community of the Gila River Indian Reservation, Arizona; Hopi Tribe of Arizona; Salt River Pima-Maricopa Indian Community of the Salt River Reservation, Arizona; and the Tohono O'odham Nation of Arizona that this notice has been published.

Dated: June 7, 2012.
David Tarler,
Acting Manager, National NAGPRA Program.

[FR Doc. 2012-14306 Filed 6-11-12; 8:45 am]

BILLING CODE 4312-50-P